DEPARTMENT OF AGRICULTURE

National Institute of Food and Agriculture

Notice of Intent To Extend a Currently Approved Information Collection

AGENCY: National Institute of Food and Agriculture, USDA.

ACTION: Notice and request for comments.

SUMMARY: In accordance with the Paperwork Reduction Act of 1995 and Office of Management and Budget (OMB) regulations, this notice announces the National Institute of Food and Agriculture (NIFA) intention to request approval for an extension of the currently approved information collection for the NIFA proposal review process.

DATES: Written comments on this notice must be received by October 1, 2018, to be assured of consideration. Comments received after that date will be considered to the extent practicable.

ADDRESSES: Written comments concerning this notice and requests for copies of the information collection may be submitted by any of the following methods: Email: rmartin.usda.gov; Fax: 202-720-0857; Mail: Office of Information Technology (OIT), NIFA, USDA, STOP 2216, 1400 Independence Avenue SW, Washington, DC 20250-2216.

FOR FURTHER INFORMATION CONTACT: Robert Martin, eGovernment Program Leader; Phone Number: 202-445-5388; Email: rmartin@nifa.usda.gov.

SUPPLEMENTARY INFORMATION:

Title: NIFA Proposal Review Process.

OMB Number: 0524-0041.

Expiration Date of Current Approval: 10/31/2018.

Type of Request: Extension of a currently approved information collection for three years.

Abstract: The National Institute of Food and Agriculture (NIFA) is responsible for performing a review of proposals submitted to NIFA competitive award programs in accordance with section 103(a) of the Agricultural Research, Extension, and Education Reform Act of 1998, 7 U.S.C. 7613(a). Reviews are undertaken to ensure that projects supported by NIFA are of high quality, and are consistent with the goals and requirements of the funding program.

Proposals submitted to NIFA undergo a programmatic evaluation to determine worthiness of Federal support. The evaluations consist of a peer panel review and may also entail an assessment by Federal employees and electronically submitted (ad-hoc) reviews in the Peer Review System.

Need and Use of the Information: The information collected from the evaluations is used to support NIFA grant programs. NIFA uses the results of the proposal evaluation to determine whether a proposal should be declined or recommended for award. When NIFA has rendered a decision, copies of reviews, excluding the names of the reviewers, and summaries of review panel deliberations, if any, are provided to the submitting Project Director.

Given the highly technical nature of many of these proposals, the quality of the peer review greatly depends on the appropriate matching of the subject matter of the proposal with the technical expertise of the potential reviewer. In order to obtain this information, an electronic questionnaire is used to collect information about potential panel and ad-hoc reviewers. If the reviewer is already in our database, the questionnaire asks potential reviewers to update their basic biographical information including address, contact information, professional expertise, and their availability to review for NIFA in the future. If the reviewer is new, they are prompted to complete the questionnaire. This information has been invaluable in the NIFA review process, which has been recognized by the grantee and grantor community for its quality.

The applications and associated materials made available to reviewers, as well as the discussions that take place during panel review meetings are strictly confidential and are not to be disclosed to or discussed with anyone who has not been officially designated to participate in the review process. While each panelist certifies at the time of preparing a review they do not have a conflict-of-interest with a particular application and will maintain its confidentiality in the Peer Review System, a certification of their intent at the time of the panel review proceedings is collected to emphasize and reinforce confidentiality not only of applications and reviews but also panel discussions. On the Conflict-of-Interest and Confidentiality Certification Form, the panelist affirms they understand the conflict-of-interest guidelines and will not be involved in the review of the application(s) where a conflict exists. The panelist also affirms their intent to maintain the confidentiality of the panel process and not disclose to another individual any information related to the peer review or use any information for personal benefit.

Estimate of Burden: NIFA estimates that anywhere from one hour to twenty hours may be required to review a proposal. It is estimated that approximately five hours are required to review an average proposal. Each proposal receives an average of four reviews, accounting for an annual burden of 20 hours. NIFA estimates it receives 4,600 competitive applications each year. The total annual burden on reviewers is 92,000 hours. NIFA estimates that the potential reviewer questionnaire takes an estimated 10 minutes to complete. The database consists of approximately 50,000 reviewers. The total annual burden of questionnaire is 8,330 hours. NIFA estimates that the potential Conflict-of-Interest and Confidentiality Certification Form takes an estimated 10 minutes to complete. The agency has approximately 1,000 panelists each year. The total annual burden of the certification form is 167 hours. The total annual burden of the component of the entire review process is 100,497 hours.

Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

All responses to this notice will be summarized and included in the request to OMB for approval. All comments will become a matter of public record.

Done in Washington, DC, on July 24, 2018.
Thomas Shanower,
Acting Director, National Institute of Food and Agriculture.

[FR Doc. 2018-16326 Filed 7-30-18; 8:45 am]

BILLING CODE 3410-22-P